DEPARTMENT OF LABOR

Employment and Training Administration

[TA-W-83,328]

General Electric Company; Transportation Division; Including On-Site Leased Workers From Adecco, YOH Services LLC, CH2MHILL, and GGS Information Services Erie, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on June 3, 2014, applicable to workers and former workers of General Electric Company, Transportation Division, including on-site leased workers from Adecco, Erie, Pennsylvania. On January 28, 2015, the Department issued an amended certification to include on-site leased workers from Yoh Services LLC.

At the request of the Commonwealth of Pennsylvania, the Department reviewed the certification for workers of the subject firm.

The company reports that workers leased from CH2MHill and GGS Information Services were on-site at the Erie, Pennsylvania location of General Electric Company, Transportation Division. The Department has determined that these workers were sufficiently under the control of the subject firm to be considered leased workers.

Based on these findings, the Department is amending this certification to include workers leased from CH2MHill and GGS Information Services working on-site at the Erie, Pennsylvania location of General Electric Company, Transportation Division.

The amended notice applicable to TA-W-83,328 is hereby issued as follows:

All workers of General Electric Company, Transportation Division, including on-site leased workers from Adecco, Yoh Services LLC, CH2MHill, and GGS Information Services, Erie, Pennsylvania, who became totally or partially separated from employment on or after December 20, 2012 through June 3, 2016, and all workers in the group threatened with total or partial separation from employment on the date of certification through two years from the date of certification, are eligible to apply for adjustment assistance under Chapter 2 of Title II of the Trade Act of 1974, as amended.

Signed in Washington, DC, this 20th day of May, 2016.
Del Min Amy Chen,
Certifying Officer, Office of Trade Adjustment Assistance.

[FR Doc. 2016-18408 Filed 8-3-16; 8:45 am]

BILLING CODE 4510-FN-P